DEPARTMENT OF TRANSPORTATION

Federal Aviation Administration

14 CFR Part 71

[Docket No. FAA-2021-0674; Airspace Docket No. 21-ASW-14]

RIN 2120-AA66

Amendment Class D and Class E Airspace; Ardmore, OK

AGENCY: Federal Aviation Administration (FAA), DOT.

ACTION: Final rule; correction.

SUMMARY: This action corrects the final rule published in the Federal Register on October 26, 2021, amending the Class D and Class E airspace at Ardmore, OK. A duplicate line of text was included in the Class E airspace extending upward from 700 feet above the surface airspace legal description.

DATES: Effective date 0901 UTC, January 27, 2022. The Director of the Federal Register approves this incorporation by reference action under Title 1 CFR part 51, subject to the annual revision of FAA Order JO 7400.11 and publication of conforming amendments.

FOR FURTHER INFORMATION CONTACT: Jeffrey Claypool, Federal Aviation Administration, Operations Support Group, Central Service Center, 10101 Hillwood Parkway, Fort Worth, TX, 76177; telephone (817) 222-5711.

SUPPLEMENTARY INFORMATION:

History

The FAA published a final rule in the Federal Register (86 FR 59015; October 26, 2021) for FR Doc. 2021-23008 amending the Class D and Class E airspace at Ardmore, OK. Subsequent to publication, the FAA identified that a duplicate line of text was included in the Class E airspace extending upward from 700 feet above the surface airspace legal description. This action corrects that error.

Class D and Class E airspace designations are published in paragraph 5000, 6002, and 6005, respectively, of FAA Order JO 7400.11F dated August 10, 2021, and effective September 15, 2021, which is incorporated by reference in 14 CFR 71.1. The Class D and Class E airspace designations listed in this document will be subsequently published in FAA Order JO 7400.11.

Correction to Final Rule

Accordingly, pursuant to the authority delegated to me, Amendment Class D and Class E Airspace; Ardmore, OK, published in the Federal Register of October 26, 2021 (86 FR 59015), FR Doc. 2021-23008, is corrected as follows:

71.1 [Amended]

On page 59016, column 2, remove line 66.

On page 59016, column 2, line 67, amend to read, “to 8.4 miles southwest of the airport,”.

Issued in Fort Worth, Texas, on October 26, 2021.
Martin A. Skinner,
Acting Manager, Operations Support Group, ATO Central Service Center.

[FR Doc. 2021-23648 Filed 10-29-21; 8:45 am]

BILLING CODE 4910-13-P